FEDERAL MARITIME COMMISSION

Notice of Agreements Filed

The Commission hereby gives notice of the filing of the following agreements under the Shipping Act of 1984. Interested parties may submit comments on an agreement to the Secretary, Federal Maritime Commission, Washington, DC 20573, within ten days of the date this notice appears in the Federal Register. Copies of agreements are available through the Commission's Office of Agreements (202-523-5793 or tradeanalysis@fmc.gov).

Agreement No.: 010776-128.

Title: Asia North America Eastbound Rate Agreement.

Parties: American President Lines, Ltd.; APL Co. Pte Ltd.; Hapag-Lloyd Container Line GmbH; Kawasaki Kisen Kaisha, Ltd.; Mitsui O.S.K. Lines, Ltd.; A. P. Moller-Maersk A/S; Nippon Yusen Kaisha Line; Orient Overseas Container Line Limited; P&O Nedlloyd B.V.; and P&O Nedlloyd Limited.

Filing Party: David F. Smith, Esq.; Sher & Blackwell; 1850 M Street, NW., Suite 900; Washington, DC 20036.

Synopsis: The modification extends the suspension of the conference through December 31, 2005.

Agreement No.: 011923.

Title: CSAV/NYK Brazil Space Charter Agreement.

Parties: Nippon Yusen Kaisha and Compania Sud-Americana de Vapores, S.A.

Filing Party: Wayne R. Rohde, Esq.; Sher & Blackwell LLP; 1850 M Street NW.; Suite 900; Washington, DC 20036.

Synopsis: The agreement authorizes NYK to charter space from CSAV for motor vehicles in the trade between Miami, Florida, and ports in Brazil.

Agreement No.: 201162-001.

Title: NYSA-ILA Assessment Agreement.

Parties: New York Shipping Association, Inc. and the International Longshoremen's Association, AFL-CIO for the Port of New York and New Jersey.

Filing Parties: Nicholas G. Maglaras, Esq.; Lambos & Junge; 29 Broadway—9th Floor; New York, NY 10006; and Andre Mazzola, Esq.; Gleason & Mathews, P.C.; 26 Broadway—17th Floor; New York, NY 10004.

Synopsis: The modification reduces the assessment for certain containers.

By Order of the Federal Maritime Commission.
Dated: November 4, 2005.
Bryant L. VanBrakle,
Secretary.

[FR Doc. 05-22370 Filed 11-8-05; 8:45 am]

BILLING CODE 6730-01-P